DEPARTMENT OF TRANSPORTATION

Federal Highway Administration

Intelligent Transportation Systems (ITS) Joint Program Office (JPO) Announcement of the Completed Integration of the Maintenance and Construction Operations User Service Into the National ITS Architecture

AGENCY: Federal Highway Administration (FHWA), DOT.

ACTION: Notice.

SUMMARY: The purpose of this notice is to announce that the U.S. Department of Transportation, through the ITS Joint Program Office (JPO), has completed the integration of the Maintenance and Construction Operations (MCO) User Service into the National ITS Architecture. This user service was identified among stakeholders of the rural ITS deployment community as needed in order to develop more effective regional ITS architectures. The user service integration effort involved considerable stakeholder participation from the highway maintenance, construction, weather, and other rural communities from May 2001 through December 2001 at the kickoff meeting, program reviews, and separate discussions/meetings.

FOR FURTHER INFORMATION CONTACT: For information on National ITS Architecture Development and Evolution: Mr. Lee Simmons, (202) 366-8048, ITS Joint Program Office (HOIT-1). For Information on the Maintenance and Construction Operations User Service: Mr. James Pol, (202) 366-4374, ITS Joint Program Office (HOIT-1), or Mr. Michael Freitas, (202) 366-9292, ITS Joint Program Office (HOIT-1); 400 Seventh Street SW., Washington, DC 20590. Office hours are from 7:45 a.m. to 4:15 p.m., e.t., Monday through Friday except Federal holidays.

SUPPLEMENTARY INFORMATION:

Electronic Access

An electronic copy of this document may be downloaded by using a computer, modem and suitable communications software from the Government Printing Office's Electronic Bulletin Board Service at (202) 512-1661. Internet users may reach the Office of the Federal Register's home page at http://www.nara.gov/fedreg and the Government Printing Office's Web site at: http://www.access.gpo.gov.

An electronic copy of the Maintenance and Construction Operations (MCO) User Service can be retrieved from the ITS Web site at: http://www.its.dot.gov. The entire National ITS Architecture, including the integrated MCO User Service may be reviewed and retrieved from the ITS Web site at: http://www.its.dot.gov. Follow the available link to the Architecture.

Background

The National ITS Architecture provides a common framework for planning, defining, and integrating intelligent transportation systems. This common framework represents the starting point for more detailed regional and/or project architectures in which local characteristics are more appropriately addressed. The scope of the National ITS Architecture is defined by a set of user services. Each user service represents the most common activities and operations that transportation stakeholders perform to sustain efficient and safe travel.

The National ITS Architecture began as a program in 1993 to incorporate the 29 user services that were defined in the National ITS Program Plan. That stakeholder-based consensus effort was completed in 1996. The Maintenance and Construction Operations User Service, published in the Federal Register on April 18, 2001, at 66 FR 20026, is the third additional user service and has now been incorporated into the National ITS Architecture.

The functional areas addressed in the MCO User Service are those that involve Intelligent Transportation (ITS) technologies, integration with other transportation systems that are represented in the National ITS Architecture, and those that will benefit surface transportation efficiency and safety. The focus for the MCO User Service is in the following four functional areas:

Maintenance Vehicle Fleet Management—systems that monitor and track vehicle location, support enhanced routing, scheduling and dispatch functions, and use on-board diagnostic systems to assist in vehicle operations and maintenance activities.

Roadway Management—systems that provide automated monitoring of traffic, road surface, and weather conditions, contain coordinated dispatching, perform hazardous road conditions remediation, and have the ability to alert public operating agencies of changes in these conditions.

Conditions and Work Plan Dissemination—systems that ensure safe roadway operations during construction and other work zone activities and communicate with the traveler.

Work Zone Management and Safety—systems that disseminate and coordinate MCO work plans to affected personnel within and between public agencies and private sector firms.

Two new subsystems have been added to the nineteen in existence, Maintenance and Construction Management, and Maintenance and Construction Vehicles. In addition, equipment packages, process specifications, architecture flows and data flows have been added to accommodate the new user service. Twelve new market packages have been defined to reflect the additional services described by the architecture. Finally, the addition of the MCO User Service brought an enhanced focus on weather information for the entire architecture.

The National ITS Architecture Version 4.0, including the new MCO User Service, is planned to be posted on the U.S. DOT ITS Web site in February 2002 with CD ROMs available for distribution in April 2002.

Authority: 23 U.S.C. 101, 106, 109, 133, 315, and 508; sec 5206(e), Pub. L. 105-178,112 Stat. 457 (23 U.S.C. 502 note); and 49 CFR 1.48.

Issued on: February 11, 2002.
Mary E. Peters,
Federal Highway Administrator.

[FR Doc. 02-3930 Filed 2-15-02; 8:45 am]

BILLING CODE 4910-22-P